SECURITIES AND EXCHANGE COMMISSION

17 CFR Parts 240, 249, 275 and 279

[Release No. 34-83063; IA-4888; File No. S7-08-18]

RIN 3235-AL27

Form CRS Relationship Summary; Amendments to Form ADV; Required Disclosures in Retail Communications and Restrictions on the Use of Certain Names or Titles

Correction

In proposed rule document 2018-08583 beginning on page 21416 in the issue of Wednesday, May 9, 2018, make the following corrections:

1. On page 21553, in the second column, line one “[Form ADV, Part 3:]1 Instructions to Form CRS” should read “APPENDIX B [Form ADV, Part 3:]1 Instructions to Form CRS”

2. On page 21570, in the first column, line one, under the table “Your Relationship with Your Financial Professional: Feedback on the Relationship Summary” should read “APPENDIX F Your Relationship with Your Financial Professional: Feedback on the Relationship Summary”

[FR Doc. C1-2018-08583 Filed 5-22-18; 8:45 am]

BILLING CODE 1301-00-D